DEPARTMENT OF COMMERCE

National Oceanic and Atmospheric Administration

[RTID 0648-XD784]

South Atlantic Fishery Management Council; Public Meetings

AGENCY: National Marine Fisheries Service (NMFS), National Oceanic and Atmospheric Administration (NOAA), Commerce.

ACTION: Notice of NC public port meetings.

SUMMARY: The South Atlantic Fishery Management Council (Council) will hold four port meetings in North Carolina to gather input on Atlantic king mackerel and Atlantic Spanish mackerel fisheries, which are managed by the Fishery Management Plan for Coastal Migratory Pelagic Resources in the Gulf of Mexico and Atlantic Region.

DATES: The port meetings will take place April 1-4, 2024. The port meetings will begin at 6 p.m., EST. For specific dates and times, see SUPPLEMENTARY INFORMATION.

ADDRESSES:

Meeting addresses: The public meetings will be held in: Wilmington, NC; Morehead City, NC; Hatteras, NC; and Manteo, NC. For specific locations, see SUPPLEMENTARY INFORMATION.

Council address: South Atlantic Fishery Management Council, 4055 Faber Place Drive, Suite 201, N Charleston, SC 29405.

FOR FURTHER INFORMATION CONTACT: Christina Wiegand, Fishery Social Scientist, SAFMC; phone: (843) 571-4366 or toll free: (866) SAFMC-10; fax: (843) 769-4520; email: christina.wiegand@safmc.net.

SUPPLEMENTARY INFORMATION: The Council is hosting a series of port meetings along the Atlantic coast throughout 2024 in order to take a focused look at the Atlantic king mackerel and Atlantic Spanish mackerel fisheries. The agenda for the four in-person public meetings is as follows: Council staff will briefly introduce port meetings and the Council's goals and objectives. Attendees will then have the opportunity, through a series of discussion-based breakout groups, to provide input on issues related to the Atlantic king mackerel and Spanish mackerel fisheries including changing environmental conditions, needed management changes, commercial and recreational fishery dynamics, and the goals and objectives of the Coastal Migratory Pelagics Fishery Management Plan. Information provided during port meetings will be summarized and presented to the Council for use in management. Additional port meetings will be scheduled along the Atlantic coast throughout the remainder of 2024. Meeting materials and additional information will be posted on the Council's website at www.safmc.net as it becomes available.

In-Person Port Meeting Locations

Monday, April 1, 2024: North Carolina Division of Marine Fisheries Southern District Office, 127 Cardinal Drive Extension, Wilmington, NC 28405; phone: (910) 796-7215;

Tuesday, April 2, 2024: North Carolina Division of Marine Fisheries Central District Office, 5285 Highway 70 West, Morehead City, NC 28557; phone: (252) 515-5500;

Wednesday, April 3, 2024: Hatteras Village Civic Center, 6658 North Carolina Hwy 12, Hatteras, NC 27943; phone: (252) 986-2109; and

Thursday, April 4, 2024: Dare County Administrative Building Board of Commissioners Meeting Room, 954 Marshall C. Collins Dr., Manteo, NC 27954; phone: (252) 475-5700.

Special Accommodations

These meetings are physically accessible to people with disabilities. Requests for auxiliary aid should be directed to the Council office (see ADDRESSES) 3 days prior to the meeting.

Note: The times and sequence specified in this agenda are subject to change.

Authority: 16 U.S.C. 1801 et seq.

Dated: March 11, 2024.
Rey Israel Marquez,
Acting Deputy Director, Office of Sustainable Fisheries, National Marine Fisheries Service.

[FR Doc. 2024-05447 Filed 3-13-24; 8:45 am]

BILLING CODE 3510-22-P